DEPARTMENT OF AGRICULTURE

Food and Nutrition Service

Agency Information Collection Activities: Proposed Collection; Comment Request—Data Collection Related to Institutions and Organizations

AGENCY: Food and Nutrition Service, USDA.

ACTION: Notice.

SUMMARY: In accordance with the Paperwork Reduction Act of 1995, this notice invites the general public and other public agencies to comment on proposed information collections. This collection is an extension without change of a currently approved collection for Data Collection Related to Institutions and Organizations, and concerns whether and to what extent faith-based and community organizations are participating in Federal nutrition assistance programs.

DATES: Written comments must be received on or before September 14, 2009.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Duke Storen, Director, Office of Strategic Initiatives, Partnerships, and Outreach, Food and Nutrition Service, U.S. Department of Agriculture, 3101 Park Center Drive, Suite 1441, Alexandria, VA 22302. Comments may also be submitted via fax to the attention of Duke Storen at (703) 605-1937 or via e-mail to duke.storen@fns.usda.gov. Comments will also be accepted through the Federal eRulemaking Portal. Go to http://www.regulations.gov and follow the online instructions for submitting comments electronically.

All written comments will be open for public inspection at the office of the Food and Nutrition Service during regular business hours (8:30 a.m. to 5 p.m., Monday through Friday) at 3101 Park Center Drive, Alexandria, Virginia 22302, Room 1431.

All responses to this notice will be summarized and included in the request for Office of Management and Budget (OMB) approval. All comments will be a matter of public record.

FOR FURTHER INFORMATION CONTACT: Requests for additional information or copies of this information collection should be directed to Sara Gold at (703) 605-4325.

SUPPLEMENTARY INFORMATION: Title: Data Collection Related to Institutions and Organizations.

OMB Number: 0584-0540.

Form Number: N/A.

Expiration Date: 11/30/2009.

Type of Request: EXTENSION.

Abstract: The purpose of the submission is to obtain approval to continue information collection. The Department of Agriculture, Food and Nutrition Service (FNS) issued an interim rule entitled “Data Collection Related to Institutions and Organizations,” as part of the Department's effort to fulfill its responsibilities under Executive Orders 13279 and 13280. The rule enabled FNS to identify the faith-based and community organizations participating in Federal nutrition assistance programs, determine the level of their participation, ensure that FNS' programs are open to all eligible organizations, and evaluate the effectiveness of its technical assistance and outreach efforts. State agencies will submit to FNS their data collection for organizations that signed an agreement with the State agencies to participate in FNS” nutrition assistance programs during Fiscal Years (FY) 2006 through 2009.

Respondents: State Agencies.

Estimated Number of Respondents: 57.

Estimated Number of Responses per Respondent: 1,162.

Estimated Total Annual Responses: 66,256.

Estimated Time per Response: 1.99.

Estimated Total Annual Burden on Respondents: 131,849 hours.

Dated: July 1, 2009.
Julia Paradis,
Administrator, Food and Nutrition Service.

[FR Doc. E9-16767 Filed 7-14-09; 8:45 am]

BILLING CODE 3410-30-P